U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on July 31, 2019 on “Exploring the Growing U.S. Reliance on China's Biotech and Pharmaceutical Products.”

DATES: The hearing is scheduled for Wednesday, July 31, 2019 at 9:00 a.m.

ADDRESSES: 428A Russell Senate Office Building, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Leslie Tisdale Reagan, 444 North Capitol Street NW, Suite 602, Washington, DC 20001; telephone: 202-624-1496, or via email at lreagan@uscc.gov. Reservations are not required to attend the hearing.

SUPPLEMENTARY INFORMATION: Background: This is the seventh public hearing the Commission will hold during its 2019 report cycle. The hearing will assess China's role in global health industries and implications for U.S. health, biotech, pharmaceutical firms, and the U.S. public. The hearing will also examine the activities of Chinese health and biotech firms in the United States and the ability of U.S. health and biotech firms to access the China market. The hearing will be co-chaired by Senator James Talent and Commissioner Michael Wessel. Any interested party may file a written statement by July 31, 2019 by mailing to the contact above. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: July 12, 2019.
Daniel W. Peck,
Executive Director, U.S.-China Economic and Security Review Commission.

[FR Doc. 2019-15245 Filed 7-16-19; 8:45 am]

BILLING CODE 1137-00-P